DEPARTMENT OF TRANSPORTATION

Maritime Administration

U.S. Maritime Transportation System National Advisory Committee; Notice of Public Meeting

AGENCY: Maritime Administration, Department of Transportation.

ACTION: Notice of public meeting.

SUMMARY: The Maritime Administration (MARAD) announces a public meeting of the U.S. Maritime Transportation System National Advisory Committee (MTSNAC) to discuss advice and recommendations for the U.S. Department of Transportation on issues related to the marine transportation system.

DATES: The meeting will be held on Tuesday, June 18, 2019 from 9:00 a.m. to 4:00 p.m. and Wednesday, June 19, 2019 from 9:00 a.m. to 12:30 p.m. Eastern Daylight Time (EDT).

ADDRESSES: The meeting will be held at the DOT Conference Center at the U.S. Department of Transportation Headquarters, 1200 New Jersey Avenue SE, Washington, DC 20590.

FOR FURTHER INFORMATION CONTACT: Amanda Rutherford, Designated Federal Officer, at MTSNAC@dot.gov or at (202) 366-1332. Please visit the MTSNAC website at https://www.maritime.dot.gov/outreach/maritime-transportation-system-mts/maritime-transportation-system-national-advisory-0.

SUPPLEMENTARY INFORMATION:

I. Background

The MTSNAC is a Federal advisory committee that advises the U.S. Secretary of Transportation through the Maritime Administrator on issues related to the marine transportation system. The MTSNAC was originally established in 1999 and mandated in 2007 by the Energy Independence and Security Act of 2007 (Pub. L. 110-140). The MTSNAC operates in accordance with the provisions of the Federal Advisory Committee Act (FACA).

II. Agenda

The agenda will include: (1) Welcome, opening remarks, and introductions; (2) brief remarks by the Maritime Administrator or Deputy Maritime Administrator; (3) administrative items; (4) updates to the Committee on subcommittee work, including breakout sessions; (5) development of work plans and proposed recommendations; (6) public comments; and (7) remarks by the Secretary. A final agenda will be posted on the MTSNAC internet website at https://www.maritime.dot.gov/outreach/maritime-transportation-system-mts/maritime-transportation-system-national-advisory-0 at least one week in advance of the meeting.

III. Public Participation

The meeting will be open to the public. Members of the public who wish to attend in person must RSVP to MTSNAC@dot.gov with your name and affiliation no later than 5:00 p.m. EDT on June 10, 2019, in order to facilitate entry. Seating will be limited and available on a first-come-first-serve basis.

Services for Individuals with Disabilities: The public meeting is physically accessible to people with disabilities. Individuals requiring accommodations, such as sign language interpretation or other ancillary aids are asked to notify Amanda Rutherford at (202) 366-1332 or MTSNAC@dot.gov five (5) business days before the meeting.

Public Comments: A public comment period will commence at approximately 3:45 p.m. on June 18 and 11:45 a.m. on June 19, 2019. To provide time for as many people to speak as possible, speaking time for each individual will be limited to three minutes. Members of the public who would like to speak are asked to contact the Designated Federal Officer via email: MTSNAC@dot.gov. Commenters will be placed on the agenda in the order in which notifications are received. If time allows, additional comments will be permitted. Copies of oral comments must be submitted in writing at the meeting or preferably emailed to MTSNAC@dot.gov . Additional written comments are welcome and must be filed as indicated below.

Written Comments: Persons who wish to submit written comments for consideration by the Committee must email MTSNAC@dot.gov, or send them to MTSNAC Designated Federal Officers via email: MTSNAC@dot.gov, Maritime Transportation System National Advisory Committee, 1200 New Jersey Avenue SE, W21-307, Washington, DC 20590 no later than June 10, 2019, to provide sufficient time for review.

(Authority: 49 CFR part 1.93(a); 5 U.S.C. 552b; 41 CFR parts 102-3; 5 U.S.C. app. Sections 1-16).

* * * * *

Dated: May 28, 2019.
By Order of the Maritime Administrator.
T. Mitchell Hudson, Jr.,
Secretary, Maritime Administration.

[FR Doc. 2019-11375 Filed 5-30-19; 8:45 am]

BILLING CODE 4910-81-P